DEPARTMENT OF HOUSING AND URBAN DEVELOPMENT

[Docket No. FR-5671-D-01]

Delegation of Concurrent Authority to the Deputy Secretary

AGENCY: Office of the Secretary, HUD.

ACTION: Notice of delegation of concurrent authority.

SUMMARY: The Secretary of the Department of Housing and Urban Development, delegates to the Deputy Secretary concurrent authority, vested in or delegated or assigned to the Secretary of Housing and Urban Development, with the exception of the power to sue and be sued.

DATES: Effective Date: November 2, 2012.

FOR FURTHER INFORMATION CONTACT: Lawrence D. Reynolds, Assistant General Counsel for Administrative Law, Office of General Counsel, Department of Housing and Urban Development, Room 9262, 451 7th Street SW., Washington, DC 20410, telephone number 202-402-3502. (This is not a toll-free number.) Individuals with speech or hearing impairments may access this number through TTY by calling 1-800-877-8339.

SUPPLEMENTARY INFORMATION: Under Section 7(d) of the Department of Housing and Urban Development Act (42 U.S.C. 3535(d)), the Secretary may delegate any of the Secretary's functions, powers and duties to such officers and employees of the Department as the Secretary may designate, and may authorize successive redelegations of such functions, powers and duties as determined to be necessary or appropriate. In the delegation of authority published today, the Secretary is delegating to the Deputy Secretary of Housing and Urban Development all the power and authority vested in or delegated or assigned to the Secretary of Housing and Urban Development to be exercised concurrently with the Secretary, with the exception of the power to sue and be sued.

Accordingly, the Secretary delegates as follows:

Section A. Authority Delegated

The Deputy Secretary of Housing and Urban Development is hereby authorized, concurrently with the Secretary, to exercise all the power and authority vested in or delegated or assigned to the Secretary of Housing and Urban Development, including the authority to redelegate to the employees of HUD any of the authority delegated under this section.

Section B. Authority Excepted

There is excepted from the authority delegated under Section A., above, the authority to sue and be sued.

Section C. Authority Superseded

This delegation supersedes all previous delegations from the Secretary of Housing and Urban Development to the Deputy Secretary of Housing and Urban Development.

Authority: Section 7(d), Department of Housing and Urban Development Act (42 U.S.C. 3535(d)).

Dated: November 2, 2012.
Shaun Donovan,
Secretary of Housing and Urban Development.

[FR Doc. 2012-27182 Filed 11-6-12; 8:45 am]

BILLING CODE 4210-67-P